DEPARTMENT OF ENERGY

Federal Energy Regulatory Commission

[Docket No. IC22-12-000]

Commission Information Collection Activities (Ferc-729); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-729 (Electric Transmission Facilities), which will be submitted to the Office of Management and Budget (OMB) for review.

DATES: Comments on the collection of information are due August 4, 2022.

ADDRESSES: Send written comments on FERC-729 to the Office of Management and Budget (OMB) through www.reginfo.gov/public/do/PRAMain, Attention: Federal Energy Regulatory Commission Desk Officer. Please identify the OMB Control Number 1902-0238 (Electric Transmission Facilities) in the subject line. Your comments should be sent within 30 days of publication of this notice in the Federal Register.

Please submit copies of your comments (identified by Docket No. IC22-12-000 and FERC-729) to the Commission as noted below. Electronic filing through http://www.ferc.gov is preferred.

• Electronic Filing: Documents must be filed in acceptable native applications and print-to-PDF, but not in scanned or picture format.

• For those unable to file electronically, comments may be filed by USPS mail or by hand (including courier) delivery:

○ Mail via U.S. Postal Service only, addressed to: Federal Energy Regulatory Commission, Secretary of the Commission, 888 First Street NE, Washington, DC 20426.

○ Hand (including courier) delivery to: Federal Energy Regulatory Commission, 12225 Wilkins Avenue, Rockville, MD 20852.

Please reference the specific collection number(s) (FERC-729) and/or title(s) (Electric Transmission Facilities) in your comments.

Instructions: OMB submissions must be formatted and filed in accordance with submission guidelines at: www.reginfo.gov/public/do/PRAMain. Using the search function under the “Currently Under Review field,” select “Federal Energy Regulatory Commission,” click “submit,” and select “comment” to the right of the subject collection. FERC submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-729, Electric Transmission Facilities.

OMB Control No.: 1902-0238.

Type of Request: Three-year extension of the existing information collection.

Abstract: This information collection consists of the filing requirements for entities seeking to construct electric transmission facilities pursuant to the Commission's authority under section 216 of the Federal Power Act (FPA).¹ Specifically, section 216(b) of the FPA authorizes the Commission, under certain circumstances, to issue permits for the construction of electric transmission facilities within national interest electric transmission corridors designated by the Secretary of Energy.

¹ 16 U.S.C. 824p.

The purpose of the Commission's part 50 regulations ² is to provide for efficient and timely review of requests for permits for the siting of proposed electric transmission facilities under section 216 of the FPA. The regulations include filing requirements associated with the Commission's pre-filing and application review processes. For the Commission's pre-filing process, the regulations require applicants to file a pre-filing request ³ and subsequent information after the commencement of the pre-filing process,⁴ including a finalized Project Participation Plan, a summary of project alternatives, draft resource reports, and monthly status reports. After the conclusion of the pre-filing process, the regulations require applicants to file an application consisting of general project information ⁵ and ten exhibits,⁶ including project maps, an environmental report, engineering data, and system analysis data.

² 18 CFR part 50.

³ 18 CFR part 50(c).

⁴ 18 CFR part 50(e).

⁵ 18 CFR part 50.6.

⁶ 18 CFR part 50.7.

The Commission published a 60-day notice for this information collection request in the Federal Register on April 15, 2022 (87 FR 22524), and received no comments on the 60-day notice.

Type of Respondent: Entities proposing to construct electric transmission facilities pursuant to the Commission's authority under section 216 of the FPA.

Estimate of Annual Burden: The Commission estimates the annual public reporting burden ⁷ for the information collection as:

⁷ “Burden” is the total time, effort, or financial resources expended by persons to generate, maintain, retain, or disclose or provide information to or for a Federal agency. For further explanation of what is included in the information collection burden, refer to 5 CFR 1320.3.

FERC-729 (OMB Control No. 1902-0238): Electric Transmission Facilities
| Number of respondents | Annual number of responses per respondent | Total number of responses | Average burden & cost per response ⁸ | Total annual burden hours & total annual cost
| (1) | (2) | (1) * (2) = (3) | (4) | (3) * (4) = (5)
Electric Transmission Facilities | 1 | 1 | 1 | 9,600 $835,200 | 9,600 $835,200

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁸ FERC staff estimates that industry costs for salary plus benefits are similar to Commission costs. The cost figure is the FY2021 FERC average annual salary plus benefits ($180,702/year or $87/hour).

Dated: June 28, 2022.
Kimberly D. Bose,
Secretary.

[FR Doc. 2022-14234 Filed 7-1-22; 8:45 am]

BILLING CODE 6717-01-P